FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011626-008.

Title: Alianca/Columbus/Crowley/P&O Nedlloyd Agreement.

Parties: Alianca Navegacao e Logistica Ltda., Hamburg-Sud, d/b/a Columbus Line and Crowley American Transport, P&O Nedlloyd Limited, P&O Nedlloyd B.V., Oceanica AGW Com. e Rep. Ltda., d/b/a Mercosul Line.

Synopsis: The proposed amendment adds Panama to the geographic scope of the agreement. The parties request expedited review.

By Order of the Federal Maritime Commission.
Dated: December 3, 2002.
Bryant L. VanBrakle,
Secretary.

[FR Doc. 02-30896 Filed 12-5-02; 8:45 am]

BILLING CODE 6730-01-P